DEPARTMENT OF COMMERCE

National Oceanic and Atmospheric Administration

50 CFR Part 600

[ I.D. 092602H]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast (NE) Multispecies Fishery Management Plan (FMP). However, further review and consultation may be necessary before a final determination is made to issue the EFP. Therefore, NMFS announces that the Regional Administrator proposes to issue an EFP that would allow one vessel to conduct fishing operations that are otherwise restricted by the regulations governing the fisheries of the Northeastern United States. The experiment proposes to conduct a study of an experimental bycatch reduction device in order to develop otter trawl gear for the NE multispecies fishery that would result in reduced catch of Atlantic cod. The EFP would allow these exemptions for one commercial vessel, for not more than 5 days of sea trials. All experimental work would be monitored by Manomet Center for Conservation Sciences personnel.

Regulations under the Magnuson-Stevens Fishery Conservation and Management Act require publication of this notification to provide interested parties the opportunity to comment on applications for proposed EFPs.

DATES: Comments on this document must be received on or before October 21, 2002.

ADDRESSES: Written comments should be sent to Patricia A. Kurkul, Regional Administrator, NMFS, Northeast Regional Office, 1 Blackburn Drive, Gloucester, MA 01930. Mark the outside of the envelope “Comments on Manomet EFP Proposal for Rigid Mesh Bycatch Reduction Device.” Comments may also be sent via facsimile (fax) to 978-281-9135.

FOR FURTHER INFORMATION CONTACT: Tom Warren, Fishery Policy Analyst, 978-281-9347.

SUPPLEMENTARY INFORMATION: An application for an EFP was submitted by Manomet Center for Conservation Sciences on August 19, 2002.

The EFP would allow for exemptions from the Gulf of Maine (GOM) Regulated Mesh Area gear requirements at 50 CFR 648.80(a)(3)(i) and the days-at-sea (DAS) requirements at § 648.82(a). The EFP would exempt one federally permitted commercial fishing vessel from the following two requirements of the FMP: The requirement to use a minimum mesh size of 6.0-inch (15.2-cm) diamond mesh or 6.5-inch (16.5-cm) square mesh in the body and extension of a trawl net while fishing in the GOM Regulated Mesh Area; and the requirement to use a DAS while targeting groundfish.

The goal of this study is to assess the utility of this bycatch reduction device for the groundfish fishery when fishing in the GOM. The specific trawl design to be tested is a rigid mesh panel inserted between the extension and codend of a trawl net and extending around the entire circumference of the net. The panel would be 2 m in length, with elongate meshes 2.4-inches (60-mm) by 7.9-inches (200-mm). The vessel would target mixed groundfish (yellowtail flounder, winter flounder, American plaice, Atlantic cod, and summer flounder). All undersized fish would be returned to the sea as quickly as possible after measurement. The incidental catch is expected to be comprised of skates, dogfish, sculpin and sea robin. The incidental catch of these species is expected to be minimal and efforts will be made to return all incidentally caught species to the sea as quickly as possible.

The applicant requested that the research be conducted in the GOM in the area north of 42° 30′ N. lat. and west of 69° 00′ W. long. However, due to the severely overfished condition of the Cape Cod stock of yellowtail flounder, NMFS will confine the research to the area north of the stock boundary 42° 50′ N. lat. The vessel would conduct a total of approximately 25 tows of 20 to 30 minutes duration over 5 sea days. The experimental design would be an alternate tow design (experimental net and conventional net in alternate tows, following an A-B-B-A pattern). Both codends would be constructed of 6.5” (165 mm) diamond mesh. The tows would be recorded using a video camera in order to verify proper net functioning and to record fish behavioral reactions. Fish retained would be counted, weighed and measured, and all legal catch sold. The vessel will be exempted from 5 DAS in order to provide compensation for a portion of the cost of the research.

If the research results from the experiment are promising, the applicant intends to conduct future research to fine-tune the use of the net and conduct fleetwide trials with the hope of integrating a bycatch reduction device requirement into the FMP.

Based on the results of this EFP, this action may lead to future rulemaking.

Authority: 16 U.S.C. 1801 et seq.

Dated: September 30, 2002.
Virginia M. Fay,
Acting Director, Office of Substainable Fisheries, National Marine Fisheries Service.

[FR Doc. 02-25335 Filed 10-3-02; 8:45 am]

BILLING CODE 3510-22-S